FEDERAL DEPOSIT INSURANCE CORPORATION

Sunshine Act Meeting

Pursuant to the provisions of the “Government in the Sunshine Act” (5 U.S.C. 552b), notice is hereby given that the Federal Deposit Insurance Corporation's Board of Directors will meet in open session at 10 a.m. on Tuesday, December 17, 2002, to consider the following matters:

Summary Agenda: No substantive discussion of the following item is anticipated. This matter will be resolved with a single vote unless a member of the Board of Directors requests that an item be moved to the discussion agenda.

Memorandum and resolution re: Delegations of Authority relating to FDIC Part 362—Investments in Equity Securities.

Discussion Agenda: Memorandum and resolution re: Notice of Proposed Rulemaking—12 CFR Part 308, Subpart U—Removal, Suspension and Debarment of Accountants from Performing Audit Services.

The meeting will be held in the Board Room on the sixth floor of the FDIC Building located at 550-17th Street, NW., Washington, DC.

The FDIC will provide attendees with auxiliary aids (e.g., sign language interpretation) required for this meeting. Those attendees needing such assistance should call (202) 416-2089 (Voice); (202) 416-2007 (TTY), to make necessary arrangements.

Requests for further information concerning the meeting may be directed to Ms. Valerie J. Best, Assistant Executive Secretary of the Corporation, at (202) 898-3742.

Dated: December 10, 2002.
Valerie J. Best,
Assistant Executive Secretary.

[FR Doc. 02-31544 Filed 12-10-02; 3:48 pm]

BILLING CODE 6714-01-M